Executive Order 13446 of September 28, 2007

Continuance of Certain Federal Advisory Committees and Amendments to and Revocation of Other Executive Orders

By the authority vested in me as President by the Constitution and the laws of the United States of America, and consistent with the provisions of the Federal Advisory Committee Act, as amended (5 U.S.C. App.), it is hereby ordered as follows:

Section 1. Each advisory committee listed below is continued until September 30, 2009.

(a) Committee for the Preservation of the White House; Executive Order 11145, as amended (Department of the Interior).

(b) National Infrastructure Advisory Council; section 3 of Executive Order 13231, as amended (Department of Homeland Security).

(c) Federal Advisory Council on Occupational Safety and Health; Executive Order 12196, as amended (Department of Labor).

(d) President's Board of Advisors on Historically Black Colleges and Universities; Executive Order 13256 (Department of Education).

(e) President's Board of Advisors on Tribal Colleges and Universities; Executive Order 13270 (Department of Education).

(f) President's Commission on White House Fellowships; Executive Order 11183, as amended (Office of Personnel Management).

(g) President's Committee for People with Intellectual Disabilities; Executive Order 12994, as amended (Department of Health and Human Services).

(h) President's Committee on the Arts and the Humanities; Executive Order 12367, as amended (National Endowment for the Arts).

(i) President's Committee on the International Labor Organization; Executive Order 12216, as amended (Department of Labor).

(j) President's Committee on the National Medal of Science; Executive Order 11287, as amended (National Science Foundation).

(k) President's Council of Advisors on Science and Technology; Executive Order 13226, as amended (Office of Science and Technology Policy).

(l) President's Council on Bioethics; Executive Order 13237 (Department of Health and Human Services).

(m) President's Council on Physical Fitness and Sports; Executive Order 13265 (Department of Health and Human Services).

(n) President's Export Council; Executive Order 12131, as amended (Department of Commerce).

(o) President's National Security Telecommunications Advisory Committee; Executive Order 12382, as amended (Department of Homeland Security).

(p) Trade and Environment Policy Advisory Committee; Executive Order 12905 (Office of the United States Trade Representative).

Sec. 2. Notwithstanding the provisions of any other Executive Order, the functions of the President under the Federal Advisory Committee Act that are applicable to the committees listed in section 1 of this order shall be performed by the head of the department or agency designated after each committee, in accordance with the guidelines and procedures established by the Administrator of General Services.

Sec. 3. The following Executive Order, which established a committee whose work has been completed, is revoked: Executive Order 13369, as amended by Executive Orders 13379 and 13386, establishing the President's Advisory Panel on Federal Tax Reform.

Sec. 4. Sections 1 and 2 of Executive Order 13385 are superseded by sections 1 and 2 of this order.

Sec. 5. Executive Order 12994, as amended (President's Committee for People with Intellectual Disabilities) is further amended to read as follows:

“By the authority vested in me as President by the Constitution and the laws of the United States of America, and in order to promote full participation of people with intellectual disabilities in their communities, it is hereby ordered as follows:

“Section 1. Committee Continued and Responsibilities Expanded. The President's Committee on Mental Retardation, with expanded membership and expanded responsibilities, and renamed the President's Committee for People with Intellectual Disabilities (Committee), is hereby continued in operation.

“Sec. 2. Composition of Committee. (a) The Committee shall be composed of the following members:

(1) The Attorney General;

(2) The Secretary of the Interior;

(3) The Secretary of Commerce;

(4) The Secretary of Labor;

(5) The Secretary of Health and Human Services;

(6) The Secretary of Housing and Urban Development;

(7) The Secretary of Transportation;

(8) The Secretary of Education;

(9) The Secretary of Homeland Security;

(10) The Chief Executive Officer of the Corporation for National and Community Service;

(11) The Commissioner of Social Security;

(12) The Chairman of the Equal Employment Opportunity Commission;

(13) The Chairperson of the National Council on Disability; and

(14) No more than 21 other members who shall be appointed to the Committee by the President. These citizen members shall consist of individuals who represent a broad spectrum of perspectives, experience, and expertise on intellectual disabilities; persons with intellectual disabilities and members of families with a child or adult with intellectual disabilities; and persons employed in either the public or the private sector. Except as the President may from time to time otherwise direct, appointees under this paragraph shall serve for two-year terms, except that an appointment made to fill a vacancy occurring before the expiration of a term shall be made for the balance of the unexpired term.

“(b) The President shall designate the Chair of the Committee from the 21 citizen members. The Chair shall preside over meetings of the Committee and represent the Committee on appropriate occasions.

“Sec. 3. Functions of the Committee. (a) Consistent with subsection (c) of this section, the Committee shall:

(1) provide such advice concerning intellectual disabilities as the President or the Secretary of Health and Human Services may request; and

(2) provide advice to the President concerning the following for people with intellectual disabilities:

(A) expansion of educational opportunities;

(B) promotion of homeownership;

(C) assurance of workplace integration;

(D) improvement of transportation options;

(E) expansion of full access to community living; and

(F) increasing access to assistive and universally designed technologies.

“(b) The Committee shall provide an annual report to the President through the Secretary of Health and Human Services. Such additional reports may be made as the President may direct or as the Committee may deem appropriate.

“(c) The members shall advise the President and carry out their advisory role consistent with the requirements of the Federal Advisory Committee Act, as amended (5 U.S.C. App.).

“Sec. 4. Cooperation by Agencies. The heads of Federal departments and agencies shall:

“(a) designate, when requested by the Secretary of Health and Human Services, an officer or employee of such department or agency to serve as a liaison with the Committee; and

“(b) furnish such information and assistance to the Committee, to the extent permitted by law, as the Secretary of Health and Human Services may request to assist the Committee in performing its functions under this order.

“Sec. 5. Administration. (a) The Department of Health and Human Services shall provide the Committee with necessary staff support, administrative services and facilities, and funding, to the extent permitted by law.

“(b) Each member of the Committee, except any member who receives other compensation from the United States Government, may receive compensation for each day engaged in the work of the Committee, as authorized by law (5 U.S.C. 3109), and may also receive travel expenses, including per diem in lieu of subsistence, as authorized by law (5 U.S.C. 5701-5707), for persons employed intermittently in the Government service. Committee members with disabilities may be compensated for attendant expenses, consistent with Government procedures and practices.

“(c) The Secretary of Health and Human Services shall perform such other functions with respect to the Committee as may be required by the Federal Advisory Committee Act, as amended (5 U.S.C. App.), except that of reporting to the Congress.

“Sec. 6. General. (a) Nothing in this order shall be construed as subjecting any Federal agency, or any function vested by law in, or assigned pursuant to law to, any Federal agency, to the authority of the Committee or as abrogating or restricting any such function in any manner.

“(b) This order is not intended to, and does not, create any right or benefit, substantive or procedural, enforceable at law or in equity by any party against the United States, its departments, agencies, instrumentalities, or entities, its officers or employees, or any other person.”.

Sec. 6. This order shall be effective September 30, 2007.

THE WHITE HOUSE,

September 28, 2007.

[FR Doc. 07-4906

Filed 10-1-07; 9:47 am]

Billing code 3195-01-P